DEPARTMENT OF DEFENSE

Department of Navy

Notice of Intent To Grant a Partially Exclusive License; CHEMEON Surface Technology, LLC

AGENCY: Department of the Navy, DoD.

ACTION: Notice of intent to grant license.

SUMMARY: The Department of the Navy hereby gives notice of its intent to grant to CHEMEON Surface Technology, LLC located at 2241 Park Place, Suite B, Minden, NV 89423, a revocable, nonassignable, partially exclusive license to practice the Government-Owned invention described in United States Patent Application number 15/474,374 titled “Synergistic Metal Polycarboxylate Corrosion Inhibitors” filed 30 March 2017 (PAX236); United States Patent Application number 16/184,264 titled “Synergistic Metal Polycarboxylate Corrosion Inhibitors” filed 08 November 2018 (PAX294); and United States Patent Application number 16/294,039 titled “Synergistic Metal Polycarboxylate Corrosion Inhibitors” filed 06 March 2019 (PAX315); and any divisional applications or continuation applications thereof, and any patents issuing from these applications, throughout the United States of America in the fields of use for CrVI and CrIII conversion coatings; phosphate conversion coatings; bluing; black oxide coatings on steel; and lubricants.

DATES: Anyone wishing to object to the grant of this license has fifteen (15) days from the publication date of this notice to file written objections along with supporting evidence, if any.

ADDRESSES: Written objections are to be filed with the Naval Air Warfare Center Aircraft Division, Technology Transfer Office, Attention Michelle Miedzinski, Code 5.0H, 22347 Cedar Point Road, Building 2185, Box 62, Room 2160, Patuxent River, Maryland 20670. File an electronic copy of objection with michelle.miedzinski@navy.mil.

FOR FURTHER INFORMATION CONTACT: Michelle Miedzinski, 301-342-1133, Naval Air Warfare Center Aircraft Division, 22347 Cedar Point Road, Building 2185, Box 62, Room 2160, Patuxent River, Maryland 20670, michelle.miedzinski@navy.mil.

Authority: (35 U.S.C. 207, 37 CFR part 404.)

Dated: July 15, 2019.
M.S. Werner,
Commander, Judge Advocate General's Corps, U. S. Navy, Federal Register Liaison Officer.

[FR Doc. 2019-15286 Filed 7-17-19; 8:45 am]

BILLING CODE 3810-FF-P